DEPARTMENT OF THE INTERIOR

Bureau of Ocean Energy Management

[Docket No. BOEM-2020-0018]

Withdrawal of the Public Review Period for Cook Inlet Lease Sale 258

AGENCY: Bureau of Ocean Energy Management, Interior.

ACTION: Notice to withdraw public review period.

SUMMARY: BOEM is withdrawing the public review period and virtual public hearings announced in the Notice of Availability (NOA) of the Draft Environmental Impact Statement (DEIS) for the proposed Cook Inlet Lease Sale 258.

DATES: This withdrawal is effective immediately. The public review period, scheduled to close March 1, 2021, and the virtual public hearings, scheduled for February 9-11, 2021, are canceled.

FOR FURTHER INFORMATION CONTACT: For information regarding this notice, please contact Amee Howard, Project Manager, Bureau of Ocean Energy Management, Alaska Regional Office, 3801 Centerpoint Drive, Suite 500, Anchorage, Alaska 99503-5823, by telephone at (907) 334-5200, or by email at amee.howard@boem.gov.

SUPPLEMENTARY INFORMATION: On January 15, 2021, BOEM published an NOA for the proposed Cook Inlet Lease Sale 258 DEIS. The NOA began a 45-day comment period and announced the dates and times of three virtual public hearings. However, in response to Executive Order 14008, BOEM has decided to cancel the comment period and public hearings for the Lease Sale 258 DEIS.

Executive Order 14008, published in the Federal Register on February 1, 2021, directed the Secretary of the Interior to pause new oil and gas leasing on public lands and offshore waters pending completion of a comprehensive review of Federal oil and gas activities, including climate and other impacts. Consistent with the Executive Order, BOEM has decided to cancel the comment period and virtual public hearings for Lease Sale 258 DEIS. This decision to postpone further environmental review of the lease sale pending completion of the review specified in the Executive Order was made to avoid administrative costs associated with holding hearings on the sale while it is under review. In advance of this notice, on February 4, 2021, BOEM issued a press release and updated its website to notify stakeholders that the public review period and virtual public hearings were cancelled. If, after completion of the review directed in Executive Order 14008, BOEM resumes its environmental review of Lease Sale 258, a notice will be published in the Federal Register.

Authority: This notice to withdraw the public review period is published pursuant to 42 U.S.C. 4321 et seq.; 40 CFR 1506.6 (2019 ed.).

Walter D. Cruickshank,
Acting Director, Bureau of Ocean Energy Management.

[FR Doc. 2021-03693 Filed 2-22-21; 8:45 am]

BILLING CODE 4310-MR-P